DEPARTMENT OF COMMERCE

National Oceanic and Atmospheric Administration

50 CFR Part 679

[Docket No. 231031-0255]

RIN 0648-BL69

Monitoring Requirements for Pot Catcher/Processors Participating in Bering Sea/Aleutian Islands Groundfish Fisheries

AGENCY: National Marine Fisheries Service (NMFS), National Oceanic and Atmospheric Administration (NOAA), Commerce.

ACTION: Final rule.

SUMMARY: NMFS issues this final rule to revise the monitoring requirements for pot gear catcher/processors (CPs) participating in Bering Sea/Aleutian Islands (BSAI) groundfish fisheries. This action is needed to address management challenges created by observer data collection errors that have impacted catch estimates. This action improves observer data collection by requiring participating CPs to carry a Level 2 observer and comply with pre-cruise meeting notifications and by requiring certification and testing standards for participants choosing any of the following voluntary monitoring options: providing observer sampling stations, installing motion-compensated platform and flow scales, and carrying additional observers on the vessel. Additionally, this action changes the location of existing monitoring regulations for longline CPs and halibut deck sorting by moving them under a single, new subpart within the regulations. This action promotes the goals and objectives of the Magnuson-Stevens Fishery Conservation and Management Act (Magnuson-Stevens Act), the Fishery Management Plan (FMP) for Groundfish of the BSAI Management Area (BSAI FMP), and other applicable laws.

DATES: This rule is effective December 11, 2023.

ADDRESSES: Electronic copies of the Regulatory Impact Review (RIR; referred to as the Analysis) prepared for this action are available from https://www.regulations.gov or from the NMFS Alaska Region website at https://www.fisheries.noaa.gov/region/alaska.

Written comments regarding the burden-hour estimates or other aspects of the collection-of-information requirements contained in this final rule may be submitted to NMFS Alaska Region, P.O. Box 21668, Juneau, AK 99802-1668, Attn: Gretchen Harrington; and to https://www.reginfo.gov/public/do/PRAMain. Find the information collections by selecting “Currently under Review” or by using the search function and entering the title of the collection.

FOR FURTHER INFORMATION CONTACT: Joel Kraski, 907-586-7228, joel.kraski@noaa.gov.

SUPPLEMENTARY INFORMATION: NMFS published a proposed rule in the Federal Register on July 6, 2023 (88 FR 43072), with public comments invited through August 7, 2023. NMFS received one comment letter on the proposed rule. A summary of the comment and NMFS' response are provided under the heading Comments and Responses section below.

Background

This final rule is intended to improve data collection by observers deployed by the North Pacific Observer Program (Observer Program) for management of the BSAI pot gear CP sector (referred to as BSAI pot CP sector throughout) by revising the existing observer-associated monitoring requirements for the BSAI pot CP sector. At its February 2023 meeting, the North Pacific Fishery Management Council (Council) took final action to recommend additional monitoring requirements for the BSAI pot CP sector. The following sections of this preamble generally describe the following: (1) the North Pacific Observer Program, (2) the BSAI pot CP sector, (3) and this final rule. A more-detailed description of the North Pacific Observer Program, the BSAI pot CP sector, and the need for this action is provided in the preamble to the proposed rule and in the Analysis and is not repeated here.

North Pacific Observer Program

The Observer Program is an integral component in the management of North Pacific fisheries. The Observer Program was created with the implementation of the Magnuson-Stevens Act in the mid-1970s and has evolved from primarily observing foreign fleets to observing domestic fleets, including the BSAI pot CP sector. Regulations at subpart E of 50 CFR part 679 implement the Observer Program and describe how NMFS-certified observers will be deployed on board vessels and in processing plants to obtain information necessary for the conservation and management of the groundfish and halibut fisheries off Alaska. The information collected by observers contributes to the best available scientific information used to manage the fisheries under the Magnuson-Stevens Act.

Observers collect biological samples and gather information on total catch, including bycatch and interactions with protected species. Fishery managers use data collected by observers to manage groundfish catch and bycatch limits established in regulation and to inform the development of management measures that minimize bycatch and reduce fishery interactions with protected resources. Scientists use observer-collected data for stock assessments and marine ecosystem research.

Bering Sea/Aleutian Islands Pot CP Sector

The BSAI pot CP sector is managed in part under the License Limitation Program (LLP), which requires an LLP license endorsed for the directed fishing of groundfish in the BSAI. The LLP was recommended by the Council and approved and implemented by NMFS to address concerns of excess fishing capacity. The LLP limits the number, size, and specific operation of vessels deployed in the groundfish fisheries in the Exclusive Economic Zone off Alaska (63 FR 52642, October 1, 1998; § 679.4(k)(4)). The BSAI pot CP sector is relatively small, with only eight LLP licenses that are endorsed to allow CPs to fish for Pacific cod with pot gear in the Bering Sea (BS) or Aleutian Islands (AI), and only six of which were actively used to fish in 2022.

The BSAI pot CP sector targets primarily Pacific cod using pot gear with single lines. Each vessel is currently required to deploy a certified observer to monitor their fishing activity. Pacific cod seasons in the BSAI are often short, lasting approximately 1 to 2 weeks during the A season (beginning January 1) and the B season (beginning September 1) in recent years. The fast pace of fishing with pot gear, high sampling workload, and the need for close communication between the captain and observer make the BSAI pot CP sector one of the most difficult fisheries for the Observer Program to sample. This sector is separate from CPs using pot gear to target groundfish in the Community Development Quota (CDQ) Program (63 FR 30381, June 4, 1998), and this action does not change any aspect of the CDQ regulations (§ 679.32). The CDQ Program allocates a percentage of BSAI quota for groundfish, prohibited species, halibut, and crab to eligible communities. The CDQ program, which was established to provide eligible western Alaska villages with the opportunity to participate and invest in BSAI fisheries and to support the economic development of local economies in western Alaska, already requires the same or stricter provisions as those set forth in this action for the non-CDQ pot CP sector.

This Final Rule

This action requires BSAI Pot CP Pacific Cod directed fishery participants to carry at least one Level 2 observer at all times, requires participants to comply with pre-cruise meeting notifications, and requires certification and testing standards for participants choosing any of the following voluntary monitoring options: providing observer sampling stations, installing motion-compensated platform and flow scales, and carrying additional observers. The three voluntary monitoring options for pot CP vessels included in this final rule establish regulations necessary to ensure the proper testing and maintenance of the equipment voluntarily installed by vessels to further improve the precision of observer data.

This final rule restructures subpart I and subpart K of 50 CFR part 679 to combine three sets of regulations under a single subpart, as follows: (1) existing regulations for longline CPs; (2) this action's regulations for pot CPs; and (3) existing regulations for CPs and motherships participating in the halibut deck sorting program. This restructuring makes no substantive changes to the regulatory requirements for longline CPs or the halibut deck sorting program but is necessary to streamline similar monitoring regulations for CPs and motherships, and thus provide the public easier access to the regulations. This final rule revises subpart I, which currently applies only to equipment and operational requirements for the longline CP subsector, so that subpart I will also apply to the equipment and operational requirements for pot CPs and for (non-pot) CPs and motherships participating in the halibut deck sorting program. This final rule changes the title of § 679.100 (from the current title, “Applicability”) to “Longline Catcher/Processor Subsector,” changes the title of subpart I (from the current title of “Equipment and Operational Requirements for the Longline Catcher/Processor Subsector”) to “Additional Equipment and Operational Requirements for Motherships and Catcher/Processors,” and changes all references to existing subpart I to new § 679.100. The regulations for the halibut deck sorting program, which are currently found at § 679.120 (titled “Halibut deck sorting”) in subpart K (similarly entitled “Halibut Deck Sorting”), are moved to subpart I and redesignated as § 679.102, with no other changes. As described further below, revised subpart I also includes new § 679.101, which contains the new pot CP monitoring requirements and is entitled, “Catcher/processors using pot gear for groundfish fishing.” In conclusion, these changes are intended to streamline and provide the public easier access to the regulations by placing similar monitoring regulations for CPs and motherships together in the same subpart rather than dispersed among other subparts where they are harder to locate.

This final rule includes three new monitoring regulatory elements for the BSAI pot CP sector. The first element adds paragraph (H) in § 679.51(a)(2)(vi) to require a minimum of one Level 2 observer on board a CP vessel using pot gear subject to § 679.101(a) at all times. These changes are intended to reduce the likelihood of fisheries data loss by ensuring experienced observers are deployed on board pot CP vessels. In addition, paragraph § 679.53(a)(5)(iv) (which states when a Level 2 endorsement is required) is revised to add a reference to the new § 679.51(a)(2)(vi)(H) requirement.

The second element of this final rule adds paragraph (a) in new § 679.101 to define the applicability of regulations at § 679.101 to the owner and operator of a vessel named on an LLP license with a Pacific cod CP pot gear endorsement in the Bering Sea, Aleutian Islands, or both. In addition, this final rule adds paragraph (b) in § 679.101 to require that vessels provide pre-cruise notification at least 24 hours prior to departure when the vessel will be carrying an observer who has not been deployed on that vessel within the last 12 months. In addition, when a pre-cruise meeting is requested by NMFS, the meeting must include the vessel operator or manager and the observers assigned to that vessel. These changes are intended to reduce the likelihood of data loss by ensuring effective communication and collaboration between the observer(s) and the captain and crew.

The third element of this final rule adds paragraph (c) in § 679.101 to include three additional voluntary monitoring options for pot CPs. The owner or operator of a vessel subject to this section may choose any, all, or none of these voluntary monitoring options: (1) providing a certified observer sampling station with a NMFS-approved motion-compensated platform (MCP) scale for observer use; (2) installing a motion-compensated, NMFS-approved scale to measure the total catch of Pacific cod, in conjunction with an MCP scale for testing, electronic logbook, and video monitoring; and (3) carrying additional observers on board. Each of these options is explained in further detail in the following sections.

Observer Sampling Station Option

The vessel operators have the option to choose to install an observer sampling station in accordance with the specifications and requirements in § 679.28(d), including a working area of 4.5 square meters, a worktable, and a MCP scale, all in proximity to where the observer can see gear retrieved and obtain fish samples (see Section 2.2.3.1 of the Analysis). An observer sampling station provides an organized workspace and higher precision equipment for observer use that improves observer data collection; however, installation of an observer sampling station can be costly. Section 679.101(c)(1) of this final rule applies if a vessel operator chooses to install an observer sampling station.

At-Sea Catch Weighing Option

This final rule adds regulations at § 679.101 to authorize use of a motion-compensated, NMFS-approved total weight scale, such as a flow or hopper scale, to measure total catch of Pacific cod, in conjunction with an MCP scale for testing, electronic logbook, and video monitoring (see Section 2.2.3.2 of Analysis). Use of a NMFS-approved scale to measure total catch of Pacific cod simplifies observer data collection of Pacific cod total haul weights on pot CP vessels and improves precision of catch estimates. Installation of a NMFS-approved scale can be costly. To ensure catch monitoring is effective if a CP vessel uses such a scale, this final rule includes regulations that apply if a vessel operator chooses to install this NMFS-approved MCP scale. With proper maintenance and testing, these types of haul-level measurements eliminate the uncertainty involved in estimating total catch using a randomized sample approach by providing a total weight of all retained catch.

If vessel operators choose to acquire such scales, they are required to maintain them in accordance with the scale requirements at § 679.28(b) to ensure data quality. These requirements include an initial inspection, followed by annual re-inspections by a NMFS-staff scale inspector. Additionally, daily testing by the vessel operator in the presence of an observer is required for each calendar day the scale is used at sea. In this testing, scales must perform within three percent of test weights using a NMFS-approved and certified MCP scale. More information about this testing can be found under the discussion of option 1 of element 3 in the Analysis. Finally, vessel operators choosing this option are required to record test results through an electronic logbook and use video to monitor the flow of catch and ensure no scale tampering has occurred; these recording and monitoring requirements are similar to those imposed on the BSAI Pacific cod hook-and-line fishery (79 FR 68610, November 18, 2014). This option can be selected by obtaining a Scale Inspection Report as detailed in § 679.28(b)(2)(vii), and, if selected, the option remains in place for the 12-month duration approved in the Scale Inspection Report.

Additional Observer Option

This final rule adds language in paragraph (c) of § 679.101 and in § 679.51(a)(2)(vi) to authorize a vessel to choose to carry one or more additional observers. Any observer in addition to the required Level 2 observer is not required to have observer certification endorsements in addition to the observer certification training endorsement specified at § 679.53(a)(5)(i). Carrying an additional observer could reduce the likelihood of data loss. The addition of observers may reduce observer workload and could allow observers to support and advise each other about their collection duties, and, therefore, potentially could lead to fewer data collection errors and an increase in the number of samples conducted. This option is already available under existing monitoring provisions (§ 679.51) that allow a vessel to choose to contract with an observer provider to carry more than one observer. This final rule adds provisions that expressly authorize and apply to the practice of voluntarily adding observers to increase the number of total hauls that are randomly sampled. If a vessel operator chooses this option, one observer is required to meet the Level 2 endorsement requirement in this final rule.

Changes From Proposed to Final Rule

This final rule includes minor technical and organizational changes to account for the Pacific Cod Trawl Cooperative (PCTC) final rule (88 FR 53704, August 8, 2023). The PCTC final rule implemented Amendment 122 to the BSAI FMP. Amendment 122 established the Pacific Cod Trawl Cooperative Program, a limited access privilege program to harvest Pacific cod in the BSAI trawl catcher vessel sector. Among numerous other regulatory changes, the PCTC final rule modified 679.51(a)(2)(vi) by adding paragraph (G) and defined the “NMFS Alaska Region website” at § 679.2. The PCTC final rule was published after the proposed rule for this action. The paragraph that appeared as § 679.51(a)(2)(vi)(G) in the proposed rule is included in this final rule as § 679.51(a)(2)(vi)(H). Technical changes have been made to the rule in §§ 679.51 and 679.100 to remove the URL for “NMFS Alaska Region website.” Technical changes were also made to 679.101(c)(3)(i)(A) through (C) to clearly show that all three of the paragraphs are part of an additive list of requirements.

Comments and Responses

NMFS received one comment letter in support of the action during the comment period. The comment letter was from a fishing company that operates a vessel impacted by this action and the letter contained one substantive comment that is summarized and responded to below.

Comment 1: This action is needed to address known catch accounting issues in the fishery; we strongly support these changes.

Response 1: NMFS acknowledges the comment.

Classification

Pursuant to section 304(b)(3) of the Magnuson-Stevens Act, the NMFS Assistant Administrator (AA) has determined that this final rule is consistent with Amendment 122 to the BSAI FMP, other provisions of the Magnuson-Stevens Act, and other applicable law.

This final rule has been determined to be not significant for the purposes of Executive Order 12866.

A Regulatory Impact Review (RIR or Analysis) was prepared to assess the costs and benefits of available regulatory alternatives. A copy of this Analysis is available from NMFS (see ADDRESSES). NMFS implements this final rule based on those measures that maximize net benefits to the Nation.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

Collection-of-Information Requirements

This final rule contains collection-of-information requirements subject to review and approval by the Office of Management and Budget (OMB) Under the Paperwork Reduction Act (PRA). This final rule revises existing collection-of-information requirements for OMB Control Number 0648-0318 (North Pacific Observer Program), and revises and extends for 3 years existing collection-of-information requirements for OMB Control Numbers 0648-0330 (NMFS Alaska Region Scale and Catch Weighing Requirements) and 0648-0515 (Alaska Interagency Electronic Reporting System). However, because the collection of information authorized by 0648-0318 is concurrently being revised by a separate action, the revision to that collection of information for this final rule will be assigned a temporary control number, 0648-0815, that will later be merged into 0648-0318. The public reporting burden estimates for the collection-of-information requirements provided below include the time for reviewing instructions, searching existing data sources, gathering and maintaining the data needed, and completing and reviewing the collection of information.

OMB Control Number 0648-0815

This final rule revises the collection of information under OMB Control Number 0648-0318, associated with the North Pacific Observer Program. Due to a concurrent action for this collection, the collection-of-information requirements will be assigned a temporary control number, 0648-0815, that will later be merged into OMB Control Number 0648-0318. This final rule requires that the North Pacific Observer Program be notified by phone at least 24 hours prior to departure when a vessel will carry an observer who has not deployed on that vessel in the past 12 months. The public reporting burden per notification to the North Pacific Observer Program by phone is estimated to be 5 minutes.

OMB Control Number 0648-0330

NMFS revises and extends by 3 years the existing requirements for OMB Control Number 0648-0330. This collection contains catch weighing and monitoring requirements for catch share programs in the BSAI and Gulf of Alaska. This collection is revised to include two of the voluntary monitoring options for BSAI pot CPs: the option to provide a certified observer sampling station with a NMFS-approved MCP scale for observer use; and the option to install a motion-compensated, NMFS-approved scale to measure the total catch of Pacific cod, in conjunction with an MCP scale for testing and video monitoring. This final rule requires testing and inspections of the observer sampling station and NMFS-approved scales. This final rule does not change the public reporting burdens for the collection-of-information requirements under this control number. The public reporting burden per individual response is estimated to average 10 minutes for the inspection request form for observer sampling stations, at-sea scales, and video monitoring systems; 1 minute for maintenance of observer sampling stations; 1 minute each for maintenance for hopper and flow scales; 2 minutes for observer notification of daily scale tests; 10 minutes each for the recording of daily flow scale tests and recording of daily hopper scale tests; 1 minute each for printed reports of catch and cumulative weight, the audit trail, the calibration log, and the fault log; 12 hours for installation of the video monitoring system; 1 minute for maintenance of the video monitoring system; 2 hours to submit the video monitoring data; 10 minutes for notification of the Pacific cod monitoring option; 40 hours for the catch monitoring and control plan; and 16 hours for the crab monitoring plan.

OMB Control Number 0648-0515

NMFS revises and extends by 3 years the existing requirements for OMB Control Number 0648-0515. This collection contains the landing reports, production reports, and logbooks submitted through the Alaska Interagency Electronic Reporting System, which provides the Alaska fishing industry with a consolidated, electronic means of reporting commercial fish and shellfish information to multiple management agencies through a single reporting system. This collection is being revised because one of the voluntary monitoring options requires use of an electronic logbook. This final rule does not change the public reporting burdens for the collection-of-information requirements under this control number. The public reporting burden per individual response is estimated to average 15 minutes for the electronic logbooks, 15 minutes to register for eLandings, 10 minutes for the shoreside processor production report, 20 minutes for the at-sea production report, 10 minutes for the mothership landing report, 20 minutes for the out-of-state landing report, 30 minutes each for the shoreside processors landing report and the CP landing report, 35 minutes for the tender landing report, and 1 hour each for the registered buyer landing report for individual fishing quota (IFQ)/community development quota (CDQ) and the registered crab receiver landing report for IFQ/CDQ.

Public Comment on Collection-of-Information Requirements

We invite the general public and other Federal agencies to comment on proposed and continuing information collections, which helps us assess the impact of our information collection requirements and minimize the public's reporting burden. Written comments and recommendations for this information collection should be submitted at the following website: https://www.reginfo.gov/public/do/PRAMain. Find the particular information collection by selecting “Currently under Review” or by using the search function and entering the title of the collection.

Notwithstanding any other provision of law, no person is required to respond to, and no person shall be subject to penalty for failure to comply with, a collection of information subject to the requirements of the PRA, unless that collection of information displays a currently valid OMB control number.

List of Subjects in 50 CFR Part 679

Alaska, Fisheries, Reporting and recordkeeping requirements.

Date: October 31, 2023.
Samuel D. Rauch III,
Deputy Assistant Administrator for Regulatory Programs National Marine Fisheries Service.

For the reasons set out in the preamble, NMFS amends 50 CFR part 679 as follows:

PART 679—FISHERIES OF THE EXCLUSIVE ECONOMIC ZONE OFF ALASKA

1. The authority citation for 50 CFR part 679 continues to read as follows:

Authority: 16 U.S.C. 773 et seq.; 1801 et seq.; 3631 et seq.; Pub. L. 108-447; Pub. L. 111-281.

§§ 679.2, 679.7, 679.28, 679.32, 679.51, 679.63, 679.84, 679.93 [Amended]

2. In 50 CFR part 679, remove the reference “§ 679.120” and add, in its place, the reference “§ 679.102” in the following places:

(a) § 679.2;

(b) § 679.7(e)(1), (2), (3), and (10), and (m)(4)(iv);

(c) § 679.28(d)(9), (d)(10)(iii)(A), and (l);

(d) § 679.32(c)(3)(i)(C)(4);

(e) § 679.51(a)(2)(vi)(F);

(f) § 679.63(a)(1);

(g) § 679.84(c)(1); and

(h) § 679.93(c)(1).

3. In § 679.51, add paragraph (a)(2)(vi)(H) to read as follows:

§ 679.51 Observer and Electronic Monitoring System requirements for vessels and plants.

(a) * * *

(2) * * *

(vi) * * *

(H) Catcher/processors using pot gear for groundfish fishing. A catcher/processor subject to § 679.101(a) must comply with the following observer coverage requirements:

(1) Observer coverage. A catcher/processor must have aboard at least one Level 2 observer, as defined in § 679.53(a)(5)(iv).

(2) Increased observer coverage option. A catcher/processor may carry more than one observer. A vessel choosing this option must have aboard at least one Level 2 observer as described in paragraph (a)(2)(vi)(H)(1) of this section.

* * * * *

§ 679.53 [Amended]

4. In § 679.53, amend paragraph (a)(5)(iv) introductory text by removing the phrase “§ 679.51(a)(2)(vi)(A) through (E)” and add, in its place, “§ 679.51(a)(2)(vi)(A) through (H).”

5. Revise the heading of subpart I to read as follows:

Subpart I—Additional Equipment and Operational Requirements for Motherships and Catcher/Processors

6. Amend § 679.100 by revising the section heading of § 679.100, the introductory text, paragraph (a), and paragraph (b) introductory text to read as follows:

§ 679.100 Longline Catcher/Processor Subsector.

The owner and operator of a vessel named on an LLP license with a Pacific cod catcher/processor hook-and-line endorsement for the Bering Sea, Aleutian Islands or both the Bering Sea and Aleutian Islands subareas (BSAI) must comply with the requirements of this section.

(a) Opt out selection. Each year, the owner of a vessel subject to this section who does not intend to directed fish for Pacific cod in the BSAI or conduct groundfish CDQ fishing at any time during a year may, by November 1st of the year prior to fishing, submit to NMFS a completed notification form to opt out of directed fishing for Pacific cod in the BSAI and groundfish CDQ fishing in the upcoming year. The notification form is available on the NMFS Alaska Region website. Once the vessel owner has selected to opt out, the owner must ensure that the vessel is not used as a catcher/processor to conduct directed fishing for Pacific cod with hook-and-line gear in the BSAI or to conduct groundfish CDQ fishing during the specified year.

(b) Monitoring option selection. The owner of a vessel subject to this section that does not opt out under paragraph (a) of this section must submit a completed notification form for one of two monitoring options to NMFS. The notification form is available on the NMFS Alaska Region website. The vessel owner must comply with the selected monitoring option at all times when the vessel is operating in either the BSAI or GOA groundfish fisheries when directed fishing for Pacific cod is open in the BSAI, or while the vessel is groundfish CDQ fishing. If NMFS does not receive a notification to opt out or a notification for one of the two monitoring options, NMFS will assign that vessel to the increased observer coverage option under paragraph (b)(1) of this section until the notification form has been received by NMFS.

* * * * *

7. In subpart I, add § 679.101 to read as follows:

§ 679.101 Catcher/processors using pot gear for groundfish fishing.

(a) Applicability. The owner and operator of a vessel named on an LLP license with a Pacific cod catcher/processor pot gear endorsement for the Bering Sea, Aleutian Islands or both the Bering Sea and Aleutian Islands subareas (BSAI) must comply with the requirements of this section when using pot gear for groundfish fishing as a catcher/processor in the Bering Sea or Aleutian Islands.

(b) Pre-cruise meeting. The Observer Program must be notified by phone at 1 (907) 581-2060 (Dutch Harbor, AK) or 1 (907) 481-1770 (Kodiak, AK) at least 24 hours prior to departure when the vessel will be carrying an observer who has not previously been deployed on that vessel within the last 12 months. Subsequent to the vessel's departure notification, but prior to departure, NMFS may contact the vessel to arrange for a pre-cruise meeting. If requested by NMFS, the pre-cruise meeting must minimally include the vessel operator or manager and any observers assigned to the vessel.

(c) Additional monitoring options. The owner or operator of a vessel subject to this section may choose any, all, or none of the following monitoring options described in paragraphs (c)(1) through (c)(3) of this section. Should an owner or operator choose any of these monitoring options, the owner and operator must comply with the applicable requirements described in paragraphs (c)(1) through (c)(3) of this section.

(1) Observer sampling station option. Under this option, an observer sampling station meeting the requirements at § 679.28(d), unless otherwise approved by NMFS, must be provided for observer use. This option is selected by obtaining an Observer Sampling Station Inspection Report as detailed in § 679.28(d)(10)(iii) and will remain in place for the 12-month duration approved in the Observer Sampling Station Inspection Report.

(2) Increased observer coverage option. Under this option, if two observers are aboard the vessel meeting the requirements at § 679.51(a)(2)(vi)(H)(2), at least one of the observers must be endorsed as a Level 2 observer in accordance with § 679.53(a)(5)(iv).

(3) NMFS-approved total catch weighing scales option. Under this option, a vessel owner and operator may install a NMFS-approved scale for weighing total catch of Pacific cod. This option is selected by obtaining a Scale Inspection Report as detailed in § 679.28(b)(2)(vii) and will remain in place for the 12-month duration approved in the Scale Inspection Report. Under this option—

(i) A vessel owner and operator with an approved Scale Inspection Report must ensure that—

(A) All Pacific cod brought on board the vessel is weighed on a NMFS-approved scale in compliance with the scale requirements at § 679.28(b), and that each set is weighed and recorded separately;

(B) The vessel is in compliance with the video monitoring requirements described at § 679.28(k); and

(C) The vessel is in compliance with the requirements for electronic logbooks at § 679.5(f) at all times during that year.

(ii) [Reserved]

§ 679.120 [Redesignated as § 679.102]

8. Redesignate § 679.120 of subpart K as § 679.102 of subpart I.

Subpart K [Reserved]

9. Reserve subpart K.

[FR Doc. 2023-24377 Filed 11-8-23; 8:45 am]

BILLING CODE 3510-22-P